NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Pub. L. 104-13. This is the second notice for public comment; the first was published in the Federal Register at 72 FR 11912, and no comments were received. NSF is forwarding the proposed renewal submission to the Office of Management and Budget (OMB) for clearance simultaneously with the publication of this second notice. The full submission may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

FOR FURTHER INFORMATION CONTACT: Suzanne Plimpton at (703) 292-7556 or send e-mail to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION: Title of Collection: Evaluation of the National Science Foundation-National Institutes for Health Bioengineering and Bioinformatics Summer Institutes (BBSI) Program.

OMB Number: 3145-NEW.

Abstract: The National Science Foundation (NSF) and the National Institute of Bioinformatics and Bioengineering (NIBIB), a new component of the National Institutes of Health, established a jointly funded program run by NSF called the Bioengineering and Bioinformatics Summer Institutes (BBSI) Program to begin creating a supply of professionals trained in bioengineering and bioinformatics. This workforce initiative complements research and education efforts in these fields funded by both agencies and constitutes a high profile effort to meet the anticipated human resource needs for bioengineering and bioinformatics.

The program is designed to provide students majoring in the biological sciences, computer sciences, engineering, mathematics, and physical sciences with well-planned interdisciplinary experiences in bioengineering or bioinformatics research and education, in very active ‘Summer Institutes'; thereby increasing the number of young people considering careers in bioengineering and bioinformatics at the graduate level and beyond.

NIBIB and NSF's Division of Engineering Education and Centers (EEC) wish to learn whether the BBSI Program as originally conceived is achieving its objectives and program-level outcomes, and to collect lessons learned for improvement of program design and implementation. This short-term evaluation is expected to provide information on what educational and career decisions have been affected by participation in a Summer Institute, what elements of the students' BBSI affect student outcomes, and how the program can be improved, e.g., through changes in specific program-wide design components, expected outcomes, proposal review criteria, etc. The survey data collection will be done on the World Wide Web.

Estimate of Burden: Public reporting burden for this collection of information is estimated to average 30 minutes per response.

Respondents: Individuals.

Estimated Number of Responses: 765.

Estimated Total Annual Burden on Respondents: 387 hours.

Frequency of Response: Once.

Dated: November 7, 2007.
Suzanne H. Plimpton,
Reports Clearance Officer, National Science Foundation.

[FR Doc. 07-5629 Filed 11-9-07; 8:45 am]

BILLING CODE 7555-01-M